DEPARTMENT OF THE INTERIOR

National Park Service

[NPS-AKR-WRST-DENA;9924-PYS]

Alaska Region's Subsistence Resource Commission (SRC) Program; Public Meeting and Teleconference

AGENCY: National Park Service, Interior.

ACTION: Notice of meeting and teleconference.

SUMMARY: The Wrangell-St. Elias National Park SRC and the Denali National Park SRC will meet to develop and continue work on National Park Service (NPS) subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of these meetings be announced in the Federal Register.

DATES: The Wrangell-St. Elias National Park SRC will meet August 4, 2011, from 9 a.m. to 12 p.m. The Denali National Park SRC will meet August 27, 2011, from 9 a.m. to 5 p.m.

FOR FURTHER INFORMATION CONTACT: For the Wrangell-St. Elias National Park SRC Meeting: Barbara Cellarius, Subsistence Manager, (907) 822-7236, or Clarence Summers, Subsistence Manager, NPS Alaska Regional Office, at (907) 644-3603. If you are interested in applying for Wrangell-St. Elias National Park SRC membership contact the Superintendent, Wrangell-St. Elias National Park & Preserve, Mile 106.8 Richardson Highway, PO Box 439, Copper Center, AK 99573, (907) 822-5234, or fax (907) 822-7216 or visit the park Web site at: http://www.nps.gov/wrst/contacts.htm.

For the Denali National Park SRC Meeting Contact: Amy Craver, Subsistence Manager, (907) 683-9544, or Clarence Summers, Subsistence Manager, NPS Alaska Regional Office, at (907) 644-3603. If you are interested in applying for Denali National Park SRC membership contact the Superintendent, Denali National Park and Preserve, P. O. Box 9, Denali Park, AK 99755, (907) 683-2294, or fax (907) 683-9617 or visit the park Web site at: http://www.nps.gov/dena/contacts.htm.

SUPPLEMENTARY INFORMATION: Public Availability of Comments: These meetings are open to the public and will have time allocated for public testimony. The public is welcome to present written or oral comments to the SRC. Each meeting will be recorded and meeting minutes will be available upon request from the park superintendent for public inspection approximately six weeks after each meeting. Before including your address, telephone number, e-mail address, or other personal identifying information in your comment, you should be aware that your entire comment—including your personal identifying information—may be made publicly available at any time. While you can ask us in your comment to withhold your personal identifying information from public review, we cannot guarantee that we will be able to do so.

If the meeting dates and locations are changed, a notice will be published in local newspapers and announced on local radio stations prior to the meeting date. SRC meeting locations and dates may need to be changed based on inclement weather or exceptional circumstances.

Wrangell-St. Elias National Park SRC Teleconference Meeting Date And Location: The Wrangell-St. Elias National Park SRC will meet at the Wrangell-St. Elias National Park and Preserve headquarters office in Copper Center, Alaska on Thursday, August 4, 2011, from 9 a.m. to 12 p.m. Teleconference meeting participants should contact Barbara Cellarius by e-mail [Barabara_Cellarius@nps.gov] or by telephone at (907) 822-7236 to receive a toll-free call-in telephone number on or before Monday, August 1, 2011. The number of teleconference lines is limited and available on a first come first serve basis.

Proposed Wrangell-St. Elias National Park SRC Agenda

1. Call to order.

2. Welcome and Introductions.

3. Administrative Announcements.

4. Approve Agenda.

5. Approval of Minutes.

6. Review SRC Purpose and Membership.

7. SRC Member Reports.

8. Public and Other Agency Comments.

9. Federal Subsistence Board Update.

10. Alaska Board of Game Update.

11. Old Business:

a. Nabesna Off-Road Vehicle Management Plan Final Environmental Impact Statement.

b. Subsistence Uses of Bones, Horn, Antlers and Plants Environmental Assessment Update.

12. New Business.

13. Public and other Agency Comments.

14. SRC Work Session.

15. Select Time and Location for Next Meeting.

16. Adjourn Meeting.

For the Denali National Park SRC meeting date and location: The Denali National Park SRC will meet at the Cantwell Community Center in Cantwell, Alaska on Saturday, August 27, 2011, from 9 a.m. to 5 p.m.

Proposed Denali National Park SRC Meeting Agenda

1. Call to order.

2. Welcome and Introductions.

3. Administrative Announcements.

4. Approve Agenda.

5. Approval of Minutes.

6. Review SRC Purpose and Membership.

7. SRC Member Reports.

8. Public and Other Agency Comments.

9. Federal Subsistence Board Update.

10. Alaska Board of Game Update.

11. Old Business:

a. Subsistence Uses of Bones, Horn, Antlers and Plants Environmental Assessment Update.

b. Timber Harvest Plan.

12. New Business:

a. Subsistence Manager Report.

b. Ranger Report.

c. Denali National Park and Preserve Resource Management Report.

13. Public and other Agency Comments.

14. SRC Work Session.

15. Set Time and Place for next SRC Meeting.

16. Adjourn Meeting.

Debora Cooper,
Associate Regional Director, Alaska.

[FR Doc. 2011-18827 Filed 7-25-11; 8:45 am]

BILLING CODE 4312-HC-P